DEPARTMENT OF ENERGY

Federal Energy Regulatory Commission

Combined Notice of Filings #2

August 21, 2009.

Take notice that the Commission has received the following Natural Gas Pipeline Rate and Refund Report filings:

Docket Numbers: RP06-200-057.

Applicants: Rockies Express Pipeline LLC.

Description: Rockies Express Pipeline, LLC submits Seventh Revised Sheet 9 et al. to FERC Gas Tariff, Second Revised Volume 1, to be effective 8/15/09.

Filed Date: 08/19/2009.

Accession Number: 20090820-0049.

Comment Date: 5 p.m. Eastern Time on Monday, August 31, 2009.

Docket Numbers: RP06-200-058.

Applicants: Rockies Express Pipeline LLC.

Description: Rockies Express Pipeline, LLC submits Eighth Revised Sheet 9 to its FERC Gas Tariff, Second Revised Volume 1, to be effective 8/19/09.

Filed Date: 08/20/2009.

Accession Number: 20090821-0101.

Comment Date: 5 p.m. Eastern Time on Tuesday, September 01, 2009.

Docket Numbers: RP09-799-001.

Applicants: Trunkline LNG Company, LLC.

Description: Trunkline LNG Company, LLC submits Sub. Seventeenth Revised Sheet 5 to its FERC Gas Tariff, Second Revised Volume 1-A, to be effective 8/1/09.

Filed Date: 08/20/2009.

Accession Number: 20090820-0150.

Comment Date: 5 p.m. Eastern Time on Tuesday, September 01, 2009.

Docket Numbers: RP09-904-001.

Applicants: Iroquois Gas Transmission System, L.P.

Description: Iroquois Gas Transmission System, LP submits a supplement to its 8/14/09 filing to correct errors that has been identified in Original Sheet 141 to FERC Gas Tariff, First Revised Volume 1.

Filed Date: 08/20/2009.

Accession Number: 20090821-0104.

Comment Date: 5 p.m. Eastern Time on Tuesday, September 01, 2009.

Docket Numbers: RP96-312-199.

Applicants: Tennessee Gas Pipeline Company.

Description: Tennessee Gas Pipeline Company submits a revised Exhibit A to the Gas Transportation Agreement pursuant to Tennessee's Rate Schedule FT-A with Nicor Gas.

Filed Date: 08/20/2009.

Accession Number: 20090821-0103.

Comment Date: 5 p.m. Eastern Time on Tuesday, September 01, 2009.

Docket Numbers: RP96-320-113.

Applicants: Gulf South Pipeline Company, LP.

Description: Gulf South Pipeline Company, LP submits an amendment to a negotiated rate letter agreement re the East Texas to Mississippi Expansion Project.

Filed Date: 08/20/2009.

Accession Number: 20090821-0102.

Comment Date: 5 p.m. Eastern Time on Tuesday, September 01, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-20998 Filed 8-31-09; 8:45 am]

BILLING CODE 6717-01-P